DEPARTMENT OF DEFENSE

Department of the Army

Board of Visitors, Defense Language Institute Foreign Language Center

AGENCY: Department of the Army, DOD.

ACTION: Notice; cancellation.

SUMMARY: The Board of Visitors, Defense Language Institute Foreign Language Center meeting scheduled for August 3 and 4, 2011 published in the Federal Register on Tuesday, July 5, 2011 (76 FR 39076) has been cancelled.

FOR FURTHER INFORMATION CONTACT: Mr. Detlev Kesten, ATFL-APO, Monterey, CA 93944, Detlev.kesten@us.army.mil, (831) 242-6670.

SUPPLEMENTARY INFORMATION: None.

Brenda S. Bowen,
Army Federal Register Liaison Officer.

[FR Doc. 2011-19207 Filed 7-28-11; 8:45 am]

BILLING CODE 3710-08-P